DEPARTMENT OF VETERANS AFFAIRS

National Commission on VA Nursing; Notice of Meeting

The Department of Veterans Affairs (VA) gives notice under Public Law 92-463 (Federal Advisory Committee Act) that the National Commission on VA Nursing will hold a meeting on December 4-5, 2003, at the Double Tree Hotel San Antonio Airport, 37 NE Loop 410 at McCullough, San Antonio, TX 78216. On December 4, the meeting will begin with registration at 8:30 a.m. and adjourn at 5 p.m. On December 5, the meeting will begin with registration at 7:30 a.m. and adjourn at 2 p.m. The meeting is open to the public.

The purpose of the Commission is to provide advice and make recommendations to Congress and the Secretary of Veterans Affairs regarding legislative and organizational policy changes to enhance the recruitment and retention of nurses and other nursing personnel in VA. The Commission is required to submit to Congress and the Secretary of Veterans Affairs a report, not later than two years from May 8, 2002, on its findings and recommendations.

On December 4, the Commission will discuss the chapters for its final report and each team will make presentations on proposed final draft recommendations. Draft recommendations will be presented according to how they will be listed under chapter heading. On December 5, the Commission will discuss and select draft recommendations for its final report.

No time will be allocated at this meeting for receiving oral presentations from the public. However, members of the public may direct written questions or submit prepared statement for review by the Commission in advance of the meeting to Ms. Oyweda Moorer, Director of the National Commission on VA Nursing, at Department of Veterans Affairs (108N), 810 Vermont Avenue, NW., DC 20420. Any member of the public wishing to attend the meeting should contact Ms. Stephanie Williams, Program Analyst at (202) 273-4944.

Dated: November 10, 2003.
By Direction of the Secretary.
E. Philip Riggin,
Committee Management Officer.

[FR Doc. 03-28682 Filed 11-17-03; 8:45 am]

BILLING CODE 8320-01-M